NATIONAL CREDIT UNION ADMINISTRATION

12 CFR Parts 701 and 790

Organization and Operations of Federal Credit Unions; Description of NCUA

AGENCY: National Credit Union Administration (NCUA).

ACTION: Final rule.

SUMMARY: The National Credit Union Administration (NCUA) Board decided to restructure NCUA's regions, effective January 1, 2004, due to economic and operational factors. The final rule amends the NCUA's regulations to reflect the resulting elimination of one office and the relocation of another office. The final rule also amends the office description of NCUA's Executive Director to include the delegated responsibility of being the NCUA's Director of Equal Employment Opportunity (EEO).

EFFECTIVE DATE: January 1, 2004.

FOR FURTHER INFORMATION CONTACT: Regina Metz, Staff Attorney, Division of Operations, Office of General Counsel, (703) 518-6540, National Credit Union Administration, 1775 Duke Street, Alexandria, VA 22314-3428.

SUPPLEMENTARY INFORMATION: The NCUA Board is amending parts 701 and 790 of its regulations, to conform them to the restructuring of NCUA's regional office locations. 12 CFR parts 701, 790. The NCUA is transitioning from six regional offices to five, and relocating its California office to Arizona. The new regional structure is effective January 1, 2004, but we note that the Lisle, Illinois office will remain open until April 3, 2004. In part 701, the office addresses are found in Appendix C to NCUA's Interpretive Ruling and Policy Statement (IRPS) 03-1.

The Board is also amending part 790 to reflect that, while the NCUA Board has ultimate responsibility for all equal employment opportunity programs within NCUA, the Board has delegated responsibility to NCUA's Executive Director to be Director of EEO.

Regulatory Procedures

Final Rule Under the Administrative Procedure Act

The revisions made to this part are not subject to the notice and comment provisions of the Administrative Procedure Act (APA), 5 U.S.C. 551 et seq. The final rule revisions relate only to matters relating to agency management and personnel, topics exempt from APA requirements. 5 U.S.C. 553(a)(2).

Effective Date

NCUA also finds good cause to dispense with the 30-day delayed effective date requirement under the APA. 5 U.S.C. 553(d)(3). The rule relates only to internal agency operations. The rule will, therefore, be effective on the day the new regional structure is effective, January 1, 2004.

Regulatory Flexibility Act

An initial regulatory flexibility analysis under the Regulatory Flexibility Act is required only when an agency is required to publish a general notice of proposed rulemaking for any proposed rule. 5 U.S.C. 603. As noted previously, NCUA has determined that it is unnecessary to publish a notice of proposed rulemaking for this rule. Accordingly, an initial regulatory analysis is not required. Moreover, since this final rule imposes no new requirements and makes only housekeeping amendments, NCUA has determined and certifies that this rule will not have any significant economic impact on a substantial number of small credit unions (primarily those under $10 million in assets).

Small Business Regulatory Enforcement Fairness Act

Title II of the Small Business Regulatory Enforcement Fairness Act (SBREFA) of 1996 (Pub. L. 104-121) provides, generally, for congressional review of agency rules. A reporting requirement is triggered in instances where NCUA issues a final rule as defined by section 551 of the APA. 5 U.S.C. 551. The Office of Management and Budget has reviewed this rule and has determined that for purposes of the Small Business Regulatory Enforcement Fairness Act of 1996 it is not a major rule.

Paperwork Reduction Act

NCUA has determined that the final rule does not increase paperwork requirements under the Paperwork Reduction Act of 1995 (44 U.S.C. 3501 et seq.) and regulations of the Office of Management and Budget.

Executive Order 13132 Statement

Executive Order 13132 encourages independent regulatory agencies to consider the impact of their regulatory actions on State and local interests. In adherence to fundamental federalism principles, NCUA, an independent regulatory agency as defined in 44 U.S.C. 3502(5), voluntarily complies with the Executive Order. NCUA has determined that this final rule does not constitute a policy that has federalism implications for purposes of the Executive Order.

The Treasury and General Government Appropriations Act, 1999—Assessment of Federal Regulations and Policies on Families

The NCUA has determined that this final rule will not affect family well-being within the meaning of section 654 of the Treasury and General Government Appropriations Act, 1999, Pub. L. 105-277, 112 Stat. 2681 (1998).

List of Subjects in 12 CFR Parts 701 and 790

Credit unions.

By the National Credit Union Administration Board on February 20, 2004.
Becky Baker,
Secretary of the Board.

For the reasons stated in the preamble, NCUA amends 12 CFR chapter VII as set forth below:

PART 701—ORGANIZATION AND OPERATION OF FEDERAL CREDIT UNIONS

1. The authority citation for part 701 continues to read as follows:

Authority: 12 U.S.C. 1752(5), 1755, 1756, 1757, 1759, 1761a, 1761b, 1766, 1767, 1782, 1784, 1787, 1789.

Section 701.6 is also authorized by 15 U.S.C. 3717.

Section 701.31 is also authorized by 15 U.S.C. 1601, et seq., 42 U.S.C. 1981 and 3601-3610.

Section 701.35 is also authorized by 12 U.S.C. 4311-4312.

Note: The text of the Interpretive Ruling and Policy Statement (IRPS 03-1) does not appear in the Code of Federal Regulations.

§ 701.1 [Amended]

2. In IRPS 03-1 (68 FR 18340, April 15, 2003), Appendix C is revised to read as follows:

Appendix C.—NCUA Offices

Central Office

1775 Duke Street

Alexandria, VA 22314-3428

Commercial: 703-518-6300

Region I—Albany

9 Washington Square

Washington Avenue Extension

Albany, NY 12205-5512

Commercial: 518-862-7400

FAX: 518-862-7420

Connecticut | Maine
Massachusetts | Michigan
New Hampshire | New York
Rhode Island | Vermont

Region II—Capital

1775 Duke Street, Suite 4206

Alexandria, VA 22314-3437

Commercial: 703-519-4600

FAX: 703-519-4620

Delaware | District of Columbia
Maryland | New Jersey
Pennsylvania | Virginia
West Virginia

Region III—Atlanta

7000 Central Parkway, Suite 1600

Atlanta, GA 30328-4598

Commercial: 678-443-3000

FAX: 678-443-3020

Alabama | Florida
Georgia | Indiana
Kentucky | Mississippi
North Carolina | Ohio
Puerto Rico | South Carolina
Tennessee | Virgin Islands

Region IV—Austin

4807 Spicewood Springs Road, Suite 5200

Austin, TX 78759-8490

Commercial: 512-342-5600

FAX: 512-342-5620

Arkansas | Illinois
Iowa | Kansas
Louisiana | Minnesota
Missouri | Nebraska
North Dakota | Oklahoma
South Dakota | Texas
Wisconsin

Region V—Tempe

1230 W. Washington Street, Suite 301

Tempe, AZ 85281

Commercial: 602-302-6000

FAX: 602-302-6024

Alaska | Arizona
American Samoa | California
Colorado | Guam
Hawaii | Idaho
Montana | Nevada
New Mexico | Oregon
Utah | Washington
Wyoming

PART 790—DESCRIPTION OF NCUA; REQUESTS FOR AGENCY ACTION

3. The authority citation for part 790 continues to read as follows:

Authority: 12 U.S.C. 1766, 1789, 1795f.

4. Amend § 790.2 as follows:

a. Revise paragraph (a);

b. Add a new sentence at the end of paragraph (b)(6); and

c. Revise paragraph (c)(1).

§ 790.2 Central and Regional Office Organization.

(a) General organization. NCUA is composed of the Board with a Central Office in Alexandria, Virginia, five Regional Offices, the Asset Management and Assistance Center, the Community Development Revolving Loan Program, and the NCUA Central Liquidity Facility (CLF).

(b) * * *

(6) * * * The Executive Director also serves as the agency's Director of Equal Employment Opportunity (EEO).

* * * * *

(c) Regional Offices.

(1) NCUA's programs are conducted through five Regional Offices:

Region No. | Area within region | Office address
I | Connecticut, Maine, Massachusetts, Michigan, New Hampshire, Michigan, New Hampshire, New York, Rhode Island, Vermont | 9 Washington Square, Washington Avenue Extension, Albany, NY 12205-5512.
II | Delaware, District of Columbia, Maryland, New Jersey, Pennsylvania, Virginia, West Virginia | 1775 Duke Street, Suite 4206, Alexandria, VA 22314-3437.
III | Alabama, Florida, Georgia, Indiana, Kentucky, Mississippi, North Carolina, Ohio, Puerto Rico, South Carolina, Tennessee, Virgin Islands | 7000 Central Parkway, Suite 1600, Atlanta, GA 30328-4598.
IV | Arkansas, Illinois, Iowa, Kansas, Louisiana, Minnesota, Missouri, Nebraska, North Dakota, Oklahoma, South Dakota, Texas, Wisconsin | 4807 Spicewood Springs Road, Suite 5200, Austin, TX 78759-8490.
V | Alaska, Arizona, American Samoa, California, Colorado, Guam, Hawaii, Idaho, Montana, Nevada, New Mexico, Oregon, Utah, Washington, Wyoming | 1230 W. Washington Street, Suite 301, Tempe, AZ 85281.

* * * * *

[FR Doc. 04-4314 Filed 2-26-04; 8:45 am]

BILLING CODE 7533-01-P